INTERNATIONAL TRADE COMMISSION

[Investigation No. 337-TA-782]

Certain Liquid Crystal Display Devices and Products Containing the Same; Determination Not To Review Initial Determination Granting Joint Motion To Terminate Based on Settlement Agreement; Termination of the Investigation

AGENCY: U.S. International Trade Commission.

ACTION: Notice.

SUMMARY: Notice is hereby given that the U.S. International Trade Commission has determined not to review an initial determination (“ID”) (Order No. 10) of the presiding administrative law judge (“ALJ”) granting a joint motion to terminate the investigation based on a settlement agreement in the above-referenced investigation.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 7, 2011, based on a complaint filed by Samsung Electronics Co., Ltd. of Korea. 76 FR 39897 (Jul. 7, 2011). The complaint, as amended, alleges violations of section 337 of the Tariff Act of 1930 (19 U.S.C. § 1337) by reason of infringement of certain claims of U.S. Patent Nos. 6,771,344; 6,882,375; 7,535,537; 7,787,087; and RE41,363. The complaint names AU Optronics Corp. of Hsinchu, Taiwan; AU Optronics Corporation America of Houston, Texas; Acer America Corporation of San Jose, California; Acer Inc. of Taipei, Taiwan; BenQ America of Irvine, California; BenQ Corp. of Taipei, Taiwan; SANYO Electric Co., Ltd. of Osaka, Japan; and SANYO North America Corporation of San Diego, California as respondents. SANYO North America was subsequently terminated from the investigation.

On January 9, 2012, the parties filed a joint motion to terminate the investigation based on a settlement agreement. On July 21, 2011, the ALJ issued the subject ID granting the joint motion. No petitions for review were filed.

The Commission has determined not to review the subject ID.

The authority for the Commission's determination is contained in Section 337 of the Tariff Act of 1930, as amended (19 U.S.C. 1337), and in section 210.42 of the Commission's Rules of Practice and Procedure (19 CFR 210.42).

Issued: January 26, 2012.
By order of the Commission.
James R. Holbein,
Secretary to the Commission.

[FR Doc. 2012-2145 Filed 1-31-12; 8:45 am]

BILLING CODE 7020-02-P